DEPARTMENT OF COMMERCE

National Oceanic and Atmospheric Administration

50 CFR Part 600

[I.D. 040703D]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator) has made a preliminary determination that an application to issue EFPs to six longline and tub trawl vessels, submitted by the Maine Department of Marine Resources (Maine DMR), contains all the information required by the regulations governing exempted experimental fishing under the provisions of the Magnuson-Stevens Fishery Conservation and Management Act (Magnuson-Stevens Act) and, therefore, warrants further consideration. The Regional Administrator has also made a preliminary determination that the activities authorized under these EFPs would be consistent with the goals and objectives of the Northeast Multispecies Fishery Management Plan (FMP) and is within the scope of earlier analyses of the impacts. However, further review and consultation may be necessary before a final determination is made to issue six EFPs. Therefore, NMFS announces that the Regional Administrator proposes to issue EFPs that would allow six commercial longline or tub trawl vessels to conduct fishing operations that are otherwise restricted by the regulations governing the fisheries of the Northeastern United States.

Regulations under the Magnuson-Stevens Act require publication of this notification to provide interested parties the opportunity to comment on applications for proposed EFPs.

DATES: Comments on this notification must be received at the appropriate address or fax number (see ADDRESSES) on or before May 5, 2003.

ADDRESSES: Written comments should be sent to Patricia A. Kurkul, Regional Administrator, NMFS, Northeast Regional Office, One Blackburn Drive, Gloucester, MA 01930. Mark the outside of the envelope “Comments on Maine Halibut EFP Proposal.” Comments may also be sent via facsimile to (978) 281-9135. Comments will not be accepted if submitted via e-mail or the Internet.

Copies of the Draft 2003 Supplement to the Environmental Assessment (EA) Prepared for the 2002 Experimental Halibut Fishery in Groundfish Closed Areas in the Eastern Gulf of Maine are available from the Northeast Regional Office at the same address.

FOR FURTHER INFORMATION CONTACT: Susan Chinn, Fishery Management Specialist, 978-281-9218.

SUPPLEMENTARY INFORMATION: NMFS announces that the Regional Administrator intends to issue EFPs to allow six federally permitted vessels to fish for, land, and possess Atlantic halibut (Hippoglossus hippoglossus) in excess of the allowable landing and possession limit specified at 50 CFR 648.86(c) within a portion of the Gulf of Maine Regulated Mesh Area (GOM RMA). The EFPs would also allow these vessels to possess temporarily Atlantic halibut less than the minimum size requirement of 36 inches (91.4 cm) specified at § 648.83(a)(1) for purposes of collecting scientific information. In addition, the EFPs would allow vessels access to GOM Rolling Closure Area IV.

Maine DMR submitted a proposal on December 1, 2002, to conduct an experimental Atlantic halibut fishery in a portion of the GOM RMA. The industry collaborative experiment involves Maine DMR, with consultation provided by the NMFS Northeast Fisheries Science Center (Center). The purpose of the experiment is to continue the collection of data on the distribution, relative abundance, migration, stock definition, mortality rates, stock size, yield, and other significant biological reference points of the Atlantic halibut resource to be used in the long-term management of the species. In addition, the experiment proposes to collect information on age and growth, size and sex composition, and rate and onset of sexual maturity. The proposed experiment is a continuation of experimental fisheries conducted by Maine DMR in 2000, 2001, and 2002.

Maine DMR proposed that the study would occur from April 1 through May 31, 2003, or for 60 consecutive days beginning from the actual start date, and would take place in a portion of the GOM RMA defined by the following coordinates:

Area Point | N. Latitude | W. Longitude
HAL 1 | Mainland Maine Coastline | 69° 00″
HAL 2 | 43o 12.3″ | 69°00″
HAL 3 | 43° 58.3″ | 67° 21.5″
HAL 4* | Mainland Maine Coastline and U.S./Canada Maritime Boundary | Mainland Maine Coastline and U.S./Canada Maritime Boundary
*Between points HAL 3 and HAL 4, the area follows the U.S./Canada maritime boundary.

A maximum of six traditional longline and tub trawl vessels would be authorized to participate in the experiment at any given time. These vessels would be limited to a maximum number of 700 hooks per boat, and would be restricted to using circle hooks no smaller than 14/0 in size. Each of the six participating vessels would also be limited to a total allowable catch (TAC) of 50 individual halibut, with no possession or landing limit prior to reaching this amount. Once this TAC is reached by an individual vessel, that vessel would be restricted to possessing and landing no more than four legal-sized halibut per day. The maximum number of Atlantic halibut that could be harvested as part of this study would be 500. The maximum harvest for both the 2000 and 2001 experimental fisheries was 1,080 halibut; for the 2002 study, it was reduced to 234 halibut.

Logbooks supplied by Maine DMR would be used to record information on length of all halibut caught, whether retained or released, time and place of all halibut caught, tag number (if applicable), amount of gear used, and bait type. In addition, species identification and length of all species caught as bycatch during the course of the study would be recorded. For all halibut that are retained, participants would be required to preserve stomachs, gonads, and any other biological samples (including scale and otolith samples) requested by scientists from Maine DMR and NMFS for further analyses. All halibut less than 36 inches (91.4 cm) total length would be measured, tagged and released. Only legal-sized halibut would be retained for commercial sale. Training in the procedures for collecting this information would be provided by Maine DMR or Center personnel. In addition, participants would be required to complete a training program in the tagging and release of halibut. Vessels may be required to carry onboard observers as requested by NMFS and Maine DMR. Maine DMR or Center personnel would train observers in the protocols of the experiment.

The 2002 experimental Atlantic halibut fishery took place with six vessels participating from April 1 - May 31, 2002, within the same study area as the proposed 2003 experimental fishery. Over the course of 60 days, 469 Atlantic halibut were caught, of which 234 were kept and 235 were tagged and released. Therefore, the experimental fishery attained the maximum allowable harvest of 234 halibut. Most of the kept halibut were sold for consumption, but 30 were sold live to the University of Maine for use as brood stock. Ten tagged fish were recaptured in 2002: seven from the 2000 experimental fishery, two from the 2001 season and one from the 2002 season. Otolith and gonad samples were taken from all fish retained, except for the 30 fish sold live to the University of Maine.

The 2001 experimental Atlantic halibut fishery took place from April 12-May 31, 2001, within the same study area. Although six vessels were permitted to fish in the 2001 experimental fishery, only four actively participated. Over the course of 50 days, 152 Atlantic halibut were caught, of which 126 were kept and 26 were tagged and released. Most of the kept halibut were sold for consumption, but 45 of the 126 kept halibut were sold live to the University of Maine for use as brood stock. Two of the fish that were caught were recaptured from the 2000 experimental fishery. One of the recaptured fish was re-released, while the other was sold live to the University of Maine. Otolith and gonad samples were taken from all fish retained, except for the 45 fish sold live to the University of Maine.

The 2000 experimental Atlantic halibut fishery took place from April 15 to June 15, 2000. Three vessels participated in this experimental fishery capturing 234 halibut, of which 162 were kept.

With an average weight of 47 lb (21 kg) per halibut, the 2000 experimental fishery landed 7,650 lb (3.5 metric tons (mt)) of halibut, approximately 32 percent of the 11-mt total Atlantic halibut landings from the GOM/Georges Bank (GB) management unit in 2000. Outside of the experimental fishery, vessels were (and continue to be) restricted to a trip limit of one halibut. The 2001 Atlantic halibut experimental fishery landed approximately 2.5 mt, 22 percent less than the 2000 experimental fishery's halibut landings. The 2002 Atlantic halibut experimental fishery landed 4.3 mt, or about 20 percent of the total GOM/GB halibut landings (22 mt) during 2002. Based on the past year's data, if the 2003 experimental fishery harvests the proposed maximum allowable take of 500 halibut, the 2003 landings will be approximately 20,276 lb (9.2 mt). In comparison, the halibut landings from the Canadian Scotian Shelf/Southern Grand Banks management unit totaled about 1,000 mt in 2001, with a total allowable catch of 1,150 mt for that unit in 2002.

Given that the Canadian halibut harvest is more than 100 times the proposed harvest for the 2003 experimental fishery, NMFS believes that the taking of 500 halibut will not significantly impact the halibut resource because halibut appear to be a transboundary resource. If the GOM/GB halibut population is discrete, the impacts of the proposed increase in total allowable harvest from 234 to 500 in the 2003 experimental fishery on the Atlantic halibut resource are unknown, but do not appear to exceed the impact of the U.S. trawl bycatch and Canadian fisheries. NMFS believes the potential negative biological impacts (which are not fully known) from the increased harvest by the experimental fishery would be outweighed by the biological benefits that could be obtained from the study. Furthermore, NMFS would closely monitor the catch rates of vessels participating in this experimental fishery. If NMFS determines that catch rates are declining, indicating a significant impact to the resource, it would have the authority to terminate the experimental fishery.

The EA prepared for the 2002 experimental fishery concluded that the activities conducted under the 2002 EFP were consistent with the goals and objectives of the Northeast Multispecies Fishery Management Plan and would have no negative environmental impacts including impacts to Essential Fish Habitat, marine mammals, and protected species. The draft 2003 Supplement to the 2002 EA makes a preliminary determination that the proposed experimental fishery to collect biological and ecological information on Atlantic halibut will not significantly affect the quality of the human environment.

Based on the results of the EFPs, this action may lead to future rulemaking.

Authority: 16 U.S.C. 1801 et seq.

Dated: April 14, 2003.
Dean Swanson,
Acting Director, Office of Sustainable Fisheries, National Marine Fisheries Service.

[FR Doc. 03-9636 Filed 4-17-03; 8:45 am]

BILLING CODE 3510-22-S